FEDERAL MARITIME COMMISSION

Ocean Transportation Intermediary License; Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
004626F | J.B.R. Marine Inc., 1163 Fairway Drive, Suite 106, City of Industry, CA 91789 | March 16, 2012.
105941F | Cargo Plus, Inc., 8333 Wessex Drive, Pennsauken, NJ 08109 | April 25, 2012.
017524F | Natco International Transports, USA, L.L.C., 12415 SW 136th Avenue, Bay 4, Miami, FL 33186 | April 8, 2012.
019398NF | Copacabana Enterprises Group, Inc., 6500 NW 84th Avenue, Miami, FL 33166 | April 17, 2012.
019808N | Centro America Envios, Inc., 1741 W. Flagler Street, Miami, FL 33135 | April 19, 2012.
020784NF | Matson Global Distribution Services, Inc., 555 12th Street, Suite 700, Oakland, CA 94607 | April 16, 2012.
020849N | Master Freight America, Corp., 8925 NW 26th Street, Miami, FL 33172 | March 14, 2012.

Vern W. Hill,
Director, Bureau of Certification and Licensing.

[FR Doc. 2012-12530 Filed 5-22-12; 8:45 am]

BILLING CODE 6730-01-P